DEPARTMENT OF HEALTH AND HUMAN SERVICES

[Document Identifier: OS-0990-New]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Ensuring That Department of Health and Human Services Funds Do Not Support Coercive or Discriminatory Policies or Practices in Violation of Federal Law—OMB No. 0990-NEW—Office of the Secretary.

Abstract: The proposed information collection is contained in the Final Rule entitled, “Ensuring That Department of Health and Human Services Funds Do Not Support Coercive or Discriminatory Policies or Practices in Violation of Federal Law.” The purpose of this collection is to ensure, by requiring written certification of compliance similar to other, existing certifications currently made by funding recipients and applicants, that recipients of Department funds are aware of and comply with the legal obligations imposed on them by the Church Amendments (42 U.S.C. 300a-7), Public Health Service Act section 245 (42 U.S.C. 238n) and the Weldon Amendment (Consolidated Appropriations Act, 2008, Pub. L. 110-161 Div. G section 508(d), 121 Stat. 1844, 2209). We estimate the universe and number of entities that would be required to certify to be 571,947. The act of certification consists of reviewing the certification language, reviewing relevant entity policies and procedures, and reviewing files before signing. Although some entities may need to sign a certification statement more than once, we assume that the entity will only carefully review the language, procedures and their files before signing the initial statement each year.

Estimated Annualized Burden Table
Type of respondent | Number of respondents | Number of responses per respondent | Average burden hours per response | Total burden hours
Hospitals (less than 100 beds) | 2403 | 1 | 30/60 | 1202
Hospitals (less than 100 beds) | 1129 | 1 | 30/60 | 565
Hospitals (200-500 beds) | 1160 | 1 | 30/60 | 580
Hospitals (more than 500 beds) | 244 | 1 | 30/60 | 122
Nursing Homes (less than 50 beds) | 2388 | 1 | 30/60 | 1194
Nursing Homes (50-99 beds) | 5819 | 1 | 30/60 | 2910
Nursing Homes (99—199 beds) | 6877 | 1 | 30/60 | 3439
Nursing Homes (more than 200 beds) | 1037 | 1 | 30/60 | 519
Physicians Offices | 234200 | 1 | 30/60 | 117100
Offices of Other Health Care Practitioners | 115378 | 1 | 30/60 | 57689
Outpatient Care Centers | 26901 | 1 | 30/60 | 13451
Medical and Diagnostics Laboratories | 11856 | 1 | 30/60 | 5928
Home Health Care Services | 20184 | 1 | 30/60 | 10092
Pharmacies (chain and independent) | 58109 | 1 | 30/60 | 29055
Dental Schools | 56 | 1 | 30/60 | 28
Medical Schools (Allopathic) | 125 | 1 | 30/60 | 63
Medical Schools (Osteopathic) | 20 | 1 | 30/60 | 10
Nursing Schools (Licensed practical) | 1138 | 1 | 30/60 | 569
Nursing Schools (Baccalaureate) | 550 | 1 | 30/60 | 275
Nursing Schools (Associate Degree) | 885 | 1 | 30/60 | 443
Nursing Schools (Diploma) | 78 | 1 | 30/60 | 39
Occupational Therapy Schools | 142 | 1 | 30/60 | 71
Optometry Schools | 17 | 1 | 30/60 | 9
Pharmacy Schools | 92 | 1 | 30/60 | 46
Podiatry Schools | 7 | 1 | 30/60 | 4
Public Health Schools | 37 | 1 | 30/60 | 19
Residency Programs (accredited) | 8494 | 1 | 30/60 | 4247
Health Insurance Carriers and 3rd party Administrators | 4578 | 1 | 30/60 | 2289
Grant awards | 63741 | 1 | 30/60 | 31871
Contractors | 4245 | 1 | 30/60 | 2123
State and territorial governments | 57 | 1 | 30/60 | 29
Totals | 571947 |  |  | 285981

Seleda M. Perryman,
Office of the Secretary, Paperwork Reduction Act Reports Clearance Officer.

[FR Doc. E8-30743 Filed 12-24-08; 8:45 am]

BILLING CODE 4150-28-P